DEPARTMENT OF COMMERCE

International Trade Administration

[A-570-036]

Certain Biaxial Integral Geogrid Products From the People's Republic of China: Final Results of the Expedited First Sunset Review of the Antidumping Duty Order

AGENCY: Enforcement and Compliance, International Trade Administration, Department of Commerce.

SUMMARY: The U.S. Department of Commerce (Commerce) finds that revocation of the antidumping duty (AD) order on certain biaxial integral geogrid products (geogrids) from the People's Republic of China (China) would be likely to lead to continuation or recurrence of dumping at the levels indicated in the “Final Results of Sunset Review” section of this notice.

DATES: Applicable June 8, 2022.

FOR FURTHER INFORMATION CONTACT: Kabir Archuletta, AD/CVD Operations, Office V, Enforcement and Compliance, International Trade Administration, U.S. Department of Commerce, 1401 Constitution Avenue NW, Washington, DC 20230; telephone: (202) 482-2593.

SUPPLEMENTARY INFORMATION:

Background

On March 3, 2017, Commerce published in the Federal Register the AD order on geogrids from China.¹ On February 1, 2022, Commerce initiated the first sunset review of the Order, pursuant to section 751(c) of the Tariff Act of 1930, as amended (the Act).² On February 16, 2022, Commerce received a timely-filed notice of intent to participate in this review from Tensar Corporation (Tensar), a domestic interested party, within the deadline specified in 19 CFR 351.218(d)(1)(i).³ Tensar claimed interested party status under section 771(9)(C) of the Act as a producer of the domestic like product in the United States.

¹ See Certain Biaxial Integral Geogrid Products from the People's Republic of China: Antidumping Duty Order, 82 FR 12440 (March 3, 2017) (Order).

² See Initiation of Five-Year (Sunset) Reviews, 87 FR 5467 (February 1, 2022) (Initiation Notice).

³ See Tensar's Letter, “Notice of Intent to Participate,” dated February 16, 2022.

On March 3, 2022, Commerce received an adequate substantive response to the Initiation Notice from the domestic interested party within the 30-day deadline specified in 19 CFR 351.218(d)(3)(i).⁴ We received no substantive responses from any other interested parties. On March 21, 2022, Commerce notified the U.S. International Trade Commission that it did not receive an adequate substantive response from respondent interested parties.⁵ As a result, pursuant to section 751(c)(3)(B) of the Act and 19 CFR 351.218(e)(1)(ii)(C)(2), Commerce conducted an expedited (120-day) sunset review of this Order.

⁴ See Tensar's Letter, “Substantive Response,” dated March 3, 2022.

⁵ See Commerce's Letter, “Sunset Reviews Initiated on February 1, 2022,” dated March 21, 2022.

Scope of the Order

The products covered by the Order are geogrids from China. For a complete description of the scope of the Order, see Issues and Decision Memorandum signed concurrently with this notice.⁶

⁶ See Memorandum, “Issues and Decision Memorandum for the Final Results of the Expedited First Sunset Review of the Antidumping Duty Order on Certain Biaxial Integral Geogrid Products from the People's Republic of China,” dated concurrently with, and hereby adopted by, this notice (Issues and Decision Memorandum).

Analysis of Comments Received

All issues raised in this sunset review are addressed in the accompanying Issues and Decision Memorandum.⁷ A list of topics discussed in the Issues and Decision Memorandum is included in the appendix to this notice. The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx.

⁷ Id.

Final Results of Sunset Review

Pursuant to sections 751(c)(1) and 752(c)(1) and (3) of the Act, Commerce determines that revocation of the Order would be likely to lead to the continuation or recurrence of dumping and that the magnitude of the margins likely to prevail is up to 372.81 percent.⁸

⁸ Id.

Administrative Protective Order (APO)

This notice serves as the only reminder to interested parties subject to an APO of their responsibility concerning the return or destruction of proprietary information disclosed under APO in accordance with 19 CFR 351.305(a). Timely notification of the return or destruction of APO materials or conversion to judicial protective order is hereby requested. Failure to comply with the regulations and terms of an APO is a violation which is subject to sanction.

Notification to Interested Parties

We are issuing and publishing these final results and notice in accordance with sections 751I, 752(c), and 777(i)(1) of the Act and 19 CFR 351.218.

Dated: June 1, 2022.
Lisa W. Wang,
Assistant Secretary for Enforcement and Compliance.

Appendix

List of Topics Discussed in the Issues and Decision Memorandum

I. Summary

II. Background

III. Scope of the Order

IV. History of the Order

V. Legal Framework

VI. Discussion of the Issues

1. Likelihood of Continuation or Recurrence of Dumping

2. Magnitude of the Margins Likely to Prevail

VII. Final Results of Sunset Review

VIII. Recommendation

[FR Doc. 2022-12314 Filed 6-7-22; 8:45 am]

BILLING CODE 3510-DS-P